FEDERAL COMMUNICATIONS COMMISSION

47 CFR Part 73

[DA No. 00-262, MM Docket No. 00-24, RM-9781]

Radio Broadcasting Services; Red Lodge and Joliet, MT

AGENCY: Federal Communications Commission.

ACTION: Proposed rule.

SUMMARY: This document requests comments on a Petition for Rule Making filed by Silver Rock Communications, Inc. proposing the substitution of Channel 257C1 for Channel 257A at Red Lodge, Montana, and modification of the license for Station KMXE-FM accordingly. The coordinates for Channel 257C1 at Red Lodge are 45-11-39 and 109-20-32. To accommodate the allotment at Red Lodge we shall also substitute Channel 292C3 for vacant Channel 259C3 at Joliet, Montana, at coordinates 45-29-06 and 108-58-18. In accordance with Section 1.420(g) of the Commission's Rules, we will not accept competing expressions of interest for the use of Channel 257C1 at Red Lodge or require petitioner to demonstrate the availability of additional equivalent class channels for use by such parties.

DATES: Comments must be filed on or before April 3, 2000, and reply comments on or before April 18, 2000.

ADDRESSES: Federal Communications Commission, Washington, DC 20554. In addition to filing comments with the FCC, interested parties should serve the petitioners' counsel, as follows: Jeffrey D. Southmayd, Southmayd & Miller, 1220 19th Street, NW, Suite 400, Washington, DC 20036.

FOR FURTHER INFORMATION CONTACT: Kathleen Scheuerle, Mass Media Bureau, (202) 418-2180.

SUPPLEMENTARY INFORMATION: This is a summary of the Commission's Notice of Proposed Rule Making, MM Docket No. 00-24, adopted February 2, 2000, and released February 11, 2000. The full text of this Commission decision is available for inspection and copying during normal business hours in the Commission's Reference Center, Washington, DC. The complete text of this decision may also be purchased from the Commission's copy contractors, International Transcription Services, Inc., 1231 20th Street, NW, Washington, DC 20036, (202) 857-3800, facsimile (202) 857-3805.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio broadcasting.

Federal Communications Commission.
John A. Karousos,
Chief, Allocations Branch, Policy and Rules Division, Mass Media Bureau.

[FR Doc. 00-4351 Filed 2-24-00; 8:45 am]

BILLING CODE 6712-01-P